ENVIRONMENTAL PROTECTION AGENCY

40 CFR Parts 52 and 70

[EPA-R07-OAR-2018-0642; FRL-9983-78—Region 7]

Air Plan Approval; Iowa; State Implementation Plan and Operating Permits Program

AGENCY: Environmental Protection Agency (EPA).

ACTION: Proposed rule.

SUMMARY: The Environmental Protection Agency (EPA) is proposing to approve revisions to the Iowa State Implementation Plan (SIP) and the Operating Permits Program. The revisions include updating definitions, clarifying permit rule exemptions and permit-by-rule regulations, revising methods and procedures for performance test/stack test and continuous monitoring systems, and updating the Prevention of Significant Deterioration (PSD) regulations and Operating Permits Program. In addition, the State has removed its rules that implement the Clean Air Interstate Rule (CAIR) and revised their acid rain rules. These revisions will not impact air quality and will ensure consistency between the state and Federally approved rules.

DATES: Comments must be received on or before November 1, 2018.

ADDRESSES: Submit your comments, identified by Docket ID No. EPA-R07-OAR-2018-0642 to https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www2.epa.gov/dockets/commenting-epa-dockets.

FOR FURTHER INFORMATION CONTACT: Stephanie Doolan, Environmental Protection Agency, Air Planning and Development Branch, 11201 Renner Boulevard, Lenexa, Kansas 66219 at (913) 551-7719, or by email at Doolan.Stephanie@epa.gov.

SUPPLEMENTARY INFORMATION: Throughout this document “we,” “us,” and “our” refer to EPA. This section provides additional information by addressing the following:

I. What is being addressed in this document?

II. What SIP revisions are being proposed by EPA?

III. What Operating Permit Plan revisions are being proposed by EPA?

IV. Have the requirements for approval of a SIP and the Operating Permits Program revisions been met?

V. What actions are proposed?

VI. Incorporation by Reference

VII. Statutory and Executive Order Reviews

I. What is being addressed in this document?

EPA is proposing to approve a submission from the State of Iowa to revise the Iowa SIP and the Operating Permits Program. The revisions to the Iowa SIP revise the definition for EPA reference method and volatile organic compounds (VOCs), clarifies permit rule exemptions and the State's permit-by-rule regulation, and revises methods and procedures for performance test/stack test and continuous monitoring systems. In addition, the State has removed its rules that implement the CAIR. The State has also revised their Prevention of Significant Deterioration (PSD) regulations to incorporate the most recent Federal requirements. Iowa has also revised their Operating Permits Program by revising the definition for EPA Reference Method, clarifying insignificant activities as applied to internal combustion engines, revising forms used to submit emission inventories and due dates as well as revising the public participation rules. In addition, the State revised their acid rain rules to include the most recent EPA Reference Method.

EPA is not acting on Chapter 25.2—Continuous emission monitoring under the acid rain program, as these provisions are not approved in the operating permits program. EPA is also not acting on the New Source Performance Standards, emission standards for hazardous air pollutants, emission standards for hazardous air pollutants for source categories, and emission guidelines that were submitted in this SIP revision. These will be addressed separately.

II. What SIP revisions are being proposed by EPA?

EPA is proposing the following revisions to the Iowa SIP:

Chapter 20—Scope of Title-Definitions: The State revised the definition of “EPA reference method,” to adopt the most current EPA methods for measuring air pollutant emissions (stack testing and continuous monitoring). EPA revised the reference methods in 40 CFR parts 51, 60, 61 and 63 on August 30, 2016. These updates will ensure that state reference methods are equivalent to Federal reference methods and are no more stringent than Federal methods.

The State revised the definition of “volatile organic compounds” (VOC) to reflect changes made to the Federal definition of VOC on August 1, 2016. EPA finalized a regulation on August 1, 2016, to exclude the compound 1,1,2,2-tetrafluoro-1-(2,2,2-trifluoroethoxy) Ethane (HFE-347pcf2) from the Federal definition because this compound makes a negligible contribution to tropospheric ozone formation. This revision to the VOC definition ensures consistency with the Federal definition.

Chapter 22—Controlling Pollution: The State made three revisions under Chapter 22, “Permits required for new or existing stationary sources,” subrule 22.1(2), “Permitting exemptions.” The revisions to permitting exemptions do not relieve the owner or operator of any source from any obligation to comply with any other applicable requirements.

The introductory paragraph to 22.1(2) “i”, “Initiation of construction, installation, reconstruction, or alteration (modification) to equipment,” now cross-refers to subrule 31.3(1) in the Iowa SIP as the previous reference no longer exists. Subrule 31.3(1) refers to definitions for nonattainment new source review requirements for areas designated nonattainment on or after May 18, 1998.

Subparagraph 22.1(2) “r”, applies to the exemption for an internal combustion engine with a brake horsepower rating of less than 400 measured at the shaft. The added language (underlined below) clarifies that the owner or operator of an engine that was manufactured, ordered, modified or reconstructed after March 18, 2009, may use this exemption only if the owner or operator, prior to installing, modifying or reconstructing the engine, submits to the department a completed registration on forms provided by the department (unless the engine is exempted from registration, as specified in this paragraph or on the registration form). This revision clarifies that an engine that meets the definition of nonroad engine as specified in 40 CFR 1068.30,¹ is exempt from registration requirements. The engine must be in compliance with New Source Performance Standards (NSPS) for stationary compression ignition internal combustion engines (40 CFR part 60, subpart IIII); NSPS for stationary spark ignition internal combustion engines (40 CFR part 60, subpart JJJJ), and National Emission Standards for Hazardous Air Pollutants for Reciprocating Internal Combustion Engines (40 CFR part 63, subpart ZZZZ). The State also corrected punctuation errors in this subparagraph.

¹ https://www.ecfr.gov/cgi-bin/text-idx?SID=db4b0eb8f69070dfa866091c274c941c&mc=true&node=se40.37.1068_130&rgn=div8.

Subparagraph 22.1(2)“w”(1) applies to “small unit” exemptions from construction permitting. The SIP-approved list of criteria has the word “or” between the last two items in the list, which could lead affected owners and operators to conclude that an emission unit does not need to meet all the criteria in the list. This proposed revision changes the word “or” to “and” between the provision for “PM2.5” and the one for “hazardous air pollutants” in the list of air pollutants. A spelling error will also be corrected with this proposed revision.

The revisions to subrule 22.8(1) “a”, “Permit by Rule,” allow powder coat material to be used in paint booths without being considered “sprayed material,” provided the powder coating is applied in an indoor-vented spray booth equipped with filters or an overspray powder recovery system. Included in this docket are justification materials from the state that evaluates that particulate emissions from powder coatings specified under the conditions in permit by rule, would not contribute to the exceedances of the ambient air quality standards for particulate matter. The justification was previously provided in support of the exemption for powder coatings for construction permits (22.1(2)“bb”). Owners and/or operators using the permit by rule must send a notification letter to the Department and complete applicability questions for the facility. Facilities not eligible for permit by rule are required to apply for a construction permit as specified under 567 IAC subrules 22.1(1) and 22.1(3).

Chapter 25—Measurement of Emissions: The State revised subrule 25.1(9), “Methods and Procedures,” to adopt the most current EPA reference methods for measuring air pollutant emissions (performance test/stack test, 25.1(9)a, and continuous monitoring systems, 25.1(9)b). EPA revised the reference methods in 40 CFR parts 51, 60, 61 and 63 on August 30, 2016. These proposed updates will ensure that state reference methods are equivalent to Federal reference methods and are no more stringent than Federal methods.

Chapter 33—Special Regulations and Construction Permit Requirements for Major Stationary Sources—Prevention of Significant Deterioration (PSD) of Air Quality:

33.1—Purpose. The State revised the applicable date to incorporate the recent changes EPA made to the Federal requirements of the PSD program from August 19, 2015, to October 18, 2016.

33.1(3)—Definitions. The State revised the definition of “volatile organic compounds” (VOC) to reflect changes made to the Federal definition of VOC on August 1, 2016. The compound 1,1,2,2-tetrafluoro-1-(2,2,2-trifluoroethoxy) Ethane (HFE-347pcf2) was excluded from the Federal definition at 40 CFR 51.100(s) because this compound makes a negligible contribution to tropospheric ozone formation. This proposed revision to the state's VOC definition ensures consistency with the Federal definition.

33.3(17)—Public participation. The State made revisions that addresses public participation requirements for the PSD program to reflect updates to the Federal regulations, at 40 CFR part 51, subpart I, published October 18, 2016. The revision removes the requirements for advertisement in a newspaper of general circulation in each region in which the proposed source will be constructed, and provides for posting of the public comment period on a website identified by the department.² The electronic notice shall be available for the duration of the public comment period and include the notice of public comment, the draft permit(s), information on how to access the administrative record for the draft permit(s), and how to request or attend a public hearing on the draft permits(s). The revision also requires the department to be consistent in the method of providing public notice while using other means necessary to ensure adequate notice to the affected public.

² The “department” is the Iowa Department of Natural Resources and the permitting authority.

33.3(22)—Permit rescission. This revision allows for rescission of PSD permits to be consistent with the Federal changes made to 40 CFR part 51, subpart I, published October 18, 2016, with regard to public participation. A notice of permit rescission may be posted on a publicly available website identified by the department.

Chapter 34—Provisions for Air Quality Emissions Trading Programs. Due to the regulations being phased out and replaced with the Cross-State Air Pollution Rule published in the Federal Register on August 8, 2011 at 76 FR 48208, Iowa is implementing the Cross-State Air Pollution Rule through a Federal Implementation Plan, and removing its regulations that implement CAIR. Because the State CAIR trading programs created by these rules are no longer being implemented, and because the rules serve no other purpose, removal of the rules from the SIP does not interfere with any applicable requirement concerning attainment or any other requirement of the CAA.

EPA is proposing to approve the rescission of the following chapters in the Iowa SIP:

34.201, CAIR NOX Annual Trading Program Provisions;

34.202, CAIR Designated Representative for CAIR NOX sources;

34.203, Permits;

34.204, Reserved;

34.205, CAIR NOX Allowance Allocations;

34.206, CAIR NOX Allowance Tracking System;

34.207, CAIR NOX Allowance Transfers;

34.208, Monitoring and Reporting;

34.209, CAIR NOX Opt-in Units;

34.210, CAIR SO2 Trading Program;

34.211-34.219, Reserved;

34.220, CAIR NOX Ozone Season Trading Program;

34.221, CAIR NOX Ozone Season Trading Program General Provisions;

34.222, CAIR Designated Representative for CAIR NOX Ozone Season Sources;

34.223, CAIR NOX Ozone Season Permits;

34.224, Reserved;

34.225, CAIR NOX Ozone Season Allowance Allocations;

34.226, CAIR NOX Ozone Season Allowance Tracking System;

34.227, CAIR NOX Ozone Season Allowance Transfers;

34.228, CAIR NOX Ozone Season Monitoring and Reporting, and 34.229, CAIR NOX Ozone Season Opt-in Units.

III. What operating permits plan revisions are being proposed by EPA?

EPA is proposing to approve the following revisions to Iowa's Operating Permits Program (Title V) as follows:

Chapter 22.100—Definitions for Title V Operating Permits: The State revised the definition of “EPA reference method,” to adopt the most current EPA methods for measuring air pollutant emissions (stack testing and continuous monitoring). EPA revised the reference methods in 40 CFR parts 51, 60, 61 and 63 on August 30, 2016. These updates will ensure that state reference methods are equivalent to Federal reference methods and are no more stringent than Federal methods.

Chapter 22.103—Insignificant activities:

Subparagraph 22.103(2)“b”(6) applies to the exemption for internal combustion engines that are used for emergency response purpose with a brake horsepower rating of less than 400 measured at the shaft. The revision adds that emergency engines that are subject to the following rules are not to be considered insignificant: New Source Performance Standards (NSPS), 40 CFR part 60 subpart IIII (stationary compression ignition internal combustion engines); NSPS 40 CFR part 60, subpart JJJJ (stationary spark ignition internal combustion engines), and National Emission Standards for hazardous air pollutants, 40 CFR part 63, subpart ZZZZ (reciprocating internal combustion engines).

Chapter 22.106, Title V permit fees:

The revision to 22.106(2) applies to emission inventories and documentation due dates. The revision specifies that emissions inventories will be submitted with forms specified by the department. For emissions in Polk and Linn Counties, three copies of forms should be submitted that document actual emissions for the previous calendar year annually by March 31. Emissions in other counties are required to submit two copies of forms documenting actual emissions for the previous calendar year annually by March 31. With this revision, the following forms have been removed: Form 1.0, “Facility Identification”; Form 4.0, “Emission Unit—Actual Operations and Emissions” for each emission unit; Form 5.0, “Title V Annual Emissions Summary/Fee”, and Part 3, “Application Certification.”

Chapter 22.107, Title V permit processing procedures:

The revision to subrule 22.107(6), “Public notice and public participation,” updates the Title V program to reflect the changes made to Federal regulations at 40 CFR 70.7(h), published October 18, 2016. The revision removes the requirements for advertisement in a newspaper of general circulation and adds that posting of the notice, including the draft permit, for the duration of the public comment period on a public website identified by the permitting authority.³

³ Iowa Department of Natural Resources.

Chapter 22.120: This chapter applies to the acid rain program. In Iowa, all provisions of the acid rain program are approved under the Title V Operating Permits Program. Therefore, the test methods as applied in Chapter 22.100 apply to Chapter 22.120 to include the most recent EPA reference method revision to 40 CFR part 75 (August 30, 2016).

Chapter 30—Fees: The revision to “Fees Associated with Title V Operating Permits” at 30.4(2) “b” removes the following forms: Form 1.0, “Facility Identification”; Form 5.0, “Title V Annual Emissions Summary/Fee”, and Part 3, “Application Certification.” The revision also adds the language “with forms specified by the department.”

IV. Have the requirements for approval of a SIP and the Operating Permits Program revisions been met?

The submission met the public notice requirements for SIP submissions in accordance with 40 CFR 51.102. The State held a public comment period from December 20, 2017 to January 22, 2018, with a public hearing on January 22, 2018. No comments were received. The submissions also satisfied the completeness criteria of 40 CFR part 51, appendix V. In addition, these revisions meet the substantive SIP requirements of the CAA, including section 110 and implementing regulations. These revisions are also consistent with applicable EPA requirements of Title V of the CAA and 40 CFR part 70.

V. What actions are proposed?

EPA is proposing to approve revisions to the Iowa SIP and the Operating Permits Program. The proposed revisions clarify rules, makes revisions and corrections, and rescinds rules no longer relevant to the air program. EPA has determined that approval of these revisions will not impact air quality and will ensure consistency between the state and federally-approved rules, and ensure Federal enforceability of the state's revised air program rules.

VI. Incorporation by Reference

In this document, EPA is proposing to include regulatory text in an EPA final rule that includes incorporation by reference. In accordance with requirements of 1 CFR 51.5, EPA is proposing to incorporate by reference the Iowa Regulations described in the proposed amendments to 40 CFR part 52 set forth below. EPA has made, and will continue to make, these materials generally available through www.regulations.gov and at the EPA Region 7 Office (please contact the person identified in the For Further Information Contact section of this preamble for more information).

VII. Statutory and Executive Order Reviews

Under the Clean Air Act (CAA), the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects

40 CFR Part 52

Environmental protection, Air pollution control, Incorporation by reference, Intergovernmental relations, Particulate matter, Reporting and recordkeeping requirements, Volatile organic compounds.

40 CFR Part 70

Environmental protection, Administrative practice and procedure, Air pollution control, Intergovernmental relations, Operating permits, Reporting and recordkeeping requirements.

Dated: September 25, 2018.
Edward H. Chu,
Acting Regional Administrator, Region 7.

For the reasons stated in the preamble, EPA proposes to amend 40 CFR parts 52 and 70 as set forth below:

PART 52—APPROVAL AND PROMULGATION OF IMPLEMENTATION PLANS

1. The authority citation for part 52 continues to read as follows:

Authority: 42 U.S.C. 7401 et seq.

Subpart Q—Iowa

2. Amend § 52.820, paragraph (c), by:

a. Revising the table entries “567-20.2”, “567-22.1”, “567-22.8”, “567-25.1”, “567-33.1”, and “567-33.3”, and

b. Removing the table entries and the heading for “Chapter 34—Provisions for Air Quality Emissions Trading Programs” in its entirety.

The revisions read as follows:

§ 52.820 Identification of plan.

* * * * *

(c) * * *

EPA-Approved Iowa Regulations
Iowa citation | Title | State effective date | EPA approval date | Explanation
Iowa Department of Natural Resources Environmental Protection Commission [567]
Chapter 20—Scope of Title-Definitions
* * * * * * *
567-20.2 | Definitions | 4/18/2018 | [Date of publication of the final rule in the Federal Register], [Federal Register citation of the final rule] | The definitions for “anaerobic lagoon,” “odor,” “odorous substance,” “odorous substance source” are not SIP approved.
* * * * * * *
Chapter 22—Controlling Pollution
567-22.1 | Permits Required for New or Stationary Sources | 4/18/2018 | [Date of publication of the final rule in the Federal Register], [Federal Register citation of the final rule] | In 22.1(3) the following sentence regarding electronic submission is not SIP approved. The sentence is: “Alternatively, the owner or operator may apply for a construction permit for a new or modified stationary source through the electronic submittal format specified by the department.”
* * * * * * *
567-22.8 | Permit by Rule | 4/18/2018 | [Date of publication of the final rule in the Federal Register], [Federal Register citation of the final rule] |
* * * * * * *
Chapter 25—Measurement of Emissions
567-25.1 | Testing and Sampling of New and Existing Equipment | 4/18/2018 | [Date of publication of the final rule in the Federal Register], [Federal Register citation of the final rule] |
* * * * * * *
Chapter 33—Special Regulations and Construction Permit Requirements for Major Stationary Sources—Prevention of Significant Deterioration (PSD) of Air Quality
567-33.1 | Purpose | 4/18/2018 | [Date of publication of the final rule in the Federal Register], [Federal Register citation of the final rule] |
567-33.3 | Special Construction Permit Requirements for Major Stationary Sources in Areas Designated Attainment or Unclassified (PSD) | 4/18/2018 | [Date of publication of the final rule in the Federal Register], [Federal Register citation of the final rule] | Provisions of the 2010 PM2.5 PSD—Increments, SILs and SMCs rule (75 FR 64865, October 20, 2010) relating to SILs and SMCs that were affected by the January 22, 2013, U.S. Court of Appeals decision are not SIP approved. Iowa's rule incorporating EPA's 2007 revision of the definition of “chemical processing plants” (the “Ethanol Rule,” published May 1, 2007) or EPA's 2008 “fugitive emissions rule,” (published December 19, 2008) are not SIP-approved.
* * * * * * *

* * * * *

PART 70—STATE OPERATING PERMIT PROGRAMS

3. The authority citation for part 70 continues to read as follows:

Authority: 42 U.S.C. 7401 et seq.

4. Amend appendix A to part 70 by adding new paragraph (t) under Iowa to read as follows:

Appendix A to Part 70—Approval Status of State and Local Operating Permits Programs

* * * * *

Iowa

* * * * *

(t) The Iowa Department of Natural Resources submitted for program approval revisions to rules 567-22.103, 567-22.106, 567-22.107, and 567-30.4. The state effective date is April 18, 2018. This revision is effective [date 60 days after date of publication of the final rule in the Federal Register].

* * * * *

[FR Doc. 2018-21287 Filed 10-1-18; 8:45 am]

BILLING CODE 6560-50-P